FEDERAL TRADE COMMISSION

16 CFR Part 305

Rule Concerning Disclosures Regarding Energy Consumption and Water Use of Certain Home Appliances and Other Products Required Under the Energy Policy and Conservation Act (“Appliance Labeling Rule”)

AGENCY: Federal Trade Commission.

ACTION: Final rule.

SUMMARY: The Federal Trade Commission (“Commission”) is amending the Appliance Labeling Rule (“Rule”) by publishing new ranges of comparability for room air conditioners. The Commission also announces that the current ranges of comparability required by the Rule for water heaters, furnaces, boilers, dishwashers, and pool heaters will remain in effect until further notice.

DATES: The amendments published in this notice are effective November 7, 2006.

FOR FURTHER INFORMATION CONTACT: Hampton Newsome, Attorney, 202-326-2889, Division of Enforcement, Bureau of Consumer Protection, Federal Trade Commission, Washington, DC 20580.

SUPPLEMENTARY INFORMATION: The Commission issued the Appliance Labeling Rule (“Rule”) in 1979, 44 FR 66466 (November 19, 1979), in response to a directive in the Energy Policy and Conservation Act of 1975 (“EPCA”).¹ The Rule covers several categories of major household appliances including water heaters, room air conditioners, furnaces, boilers, dishwashers, and pool heaters.

¹ 42 U.S.C. 6294. The statute also requires the Department of Energy (“DOE”) to develop test procedures that measure how much energy the appliances use, and to determine the representative average cost a consumer pays for the different types of energy available.

I. Background

The Rule requires manufacturers of all covered appliances to disclose specific energy consumption or efficiency information derived from Department of Energy (“DOE”) test procedures at the point of sale in the form of an “EnergyGuide” label, in fact sheets (for some appliances), and in catalogs. The Rule requires manufacturers to include, on labels and fact sheets, an energy consumption or efficiency figure and a “range of comparability.” This range shows the highest and lowest energy consumption or efficiencies for all comparable appliance models so consumers can compare the energy consumption or efficiency of similar models. The Rule also requires manufacturers to include on labels for some products a secondary energy usage disclosure in the form of an estimated annual operating cost based on a specified DOE national average cost for the energy the appliance uses.

Section 305.8(b) of the Rule requires manufacturers, after filing an initial report, to report certain information annually to the Commission.² These reports, which assist the Commission in preparing the ranges of comparability, contain the estimated annual energy consumption or energy efficiency ratings for the appliances derived from tests performed pursuant to DOE test procedures. Because manufacturers regularly add new models to their lines, improve existing models, and discontinue others, the data base from which the ranges of comparability are calculated changes constantly. To keep the information on labels up-to-date, the Commission, therefore, publishes new ranges if the upper or lower limits of the ranges have changed by more than 15%. Otherwise, the Commission publishes a statement that the prior ranges remain in effect for the next year.

² Annual reports for water heaters, room air conditioners, furnaces, boilers, and pool heaters are due May 1. Annual reports for dishwashers are due June 1.

II. New Ranges for Room Air Conditioners

The 2006 manufacturer data for room air conditioners indicates that ranges of comparability for room air conditioners have changed significantly since the Commission last amended the ranges in 1995. Accordingly, the Commission is amending the range for room air conditioners in Appendix E of the Rule. The new ranges of comparability for room air conditioners supersede the current ranges, which were published on November 13, 1995 (60 FR 56945). Room air conditioner manufacturers must base the disclosures of estimated annual operating cost required at the bottom of EnergyGuide labels for these products on the 2006 Representative Average Unit Costs of Energy for electricity (9.81 cents per kiloWatt-hour) that were published by DOE on March 11, 2005 (71 FR 9806).³

³ Unlike DOE requirements (see 10 CFR 430.32), FTC labeling rules do not have separate room air conditioner categories for casement-only and casement-slider models. Accordingly, the FTC ranges of comparability for many room air conditioner categories are based on data that include the efficiency ratings of these specialized model types. In some cases, the minimum DOE efficiency standards for casement models are lower than that allowed for other room air conditioner models.

III. Review of 2005 Data Submissions for Water Heaters, Dishwashers, Furnaces, Boilers, and Pool Heaters

Manufacturers have also submitted data for water heaters (including storage-type, gas-fired instantaneous, and heat pump water heaters), dishwashers, furnaces (including boilers), and pool heaters. The ranges of comparability for these products have not changed significantly. Therefore, the current ranges will remain in effect until further notice. Manufacturers should continue to base their cost disclosures on estimated annual operating costs specified in the applicable Appendices to the Rule.

IV. Administrative Procedure Act

The amendments published in this notice involve routine, technical and minor, or conforming changes to the labeling requirements in the Rule. These technical amendments merely provide a routine change to the range and cost information required on EnergyGuide labels. Accordingly, the Commission finds for good cause that public comment for these technical, procedural amendments is impractical and unnecessary (5 U.S.C. 553(b)(A)(B) and (d)).

V. Regulatory Flexibility Act

The provisions of the Regulatory Flexibility Act relating to a Regulatory Flexibility Act analysis (5 U.S.C. 603-604) are not applicable to this proceeding because the amendments do not impose any new obligations on entities regulated by the Appliance Labeling Rule. These technical amendments merely provide a routine change to the range information required on EnergyGuide labels. Thus, the amendments will not have a “significant economic impact on a substantial number of small entities.” 5 U.S.C. 605. The Commission has concluded, therefore, that a regulatory flexibility analysis is not necessary, and certifies, under section 605 of the Regulatory Flexibility Act (5 U.S.C. 605(b)), that the amendments announced today will not have a significant economic impact on a substantial number of small entities.

VI. Paperwork Reduction Act

In a June 13, 1988 notice (53 FR 22106), the Commission stated that the Rule contains disclosure and reporting requirements that constitute “information collection requirements” as defined by 5 CFR 1320.7(c), the regulation that implements the Paperwork Reduction Act.⁴ The Commission noted that the Rule had been reviewed and approved in 1984 by the Office of Management and Budget (“OMB”) and assigned OMB Control No. 3084-0068. OMB has reviewed the Rule and extended its approval for its recordkeeping and reporting requirements until December 31, 2007. The amendments now being adopted do not change the substance or frequency of the recordkeeping, disclosure, or reporting requirements and, therefore, do not require further OMB clearance.

⁴ 44 U.S.C. 3501-3520.

List of Subjects in 16 CFR Part 305

Advertising, Energy conservation, Household appliances, Labeling, Reporting and recordkeeping requirements.

Accordingly, 16 CFR part 305 is amended as follows:

PART 305—[AMENDED]

1. The authority citation for part 305 continues to read:

Authority: 42 U.S.C. 6294.

2. Appendix E to part 305 is revised to read as follows:

Appendix E to Part 305.—Room Air Conditioners
[Range Information]
Manufacturer's rated cooling capacity in Btu's/yr | Range of energy efficiency ratios (EERs): Low | Range of energy efficiency ratios (EERs): High
Without Reverse Cycle and with Louvered Sides:
Less than 6,000 Btu | 9.7 | 11.2
6,000 to 7,999 Btu | 8.7 | 11.5
8,000 to 13,999 Btu | 8.5 | 12.0
14,000 to 19,999 Btu | 8.5 | 11.5
20,000 and more Btu | 8.5 | 9.9
Without Reverse Cycle and without Louvered Sides:
Less than 6,000 Btu | (*) | (*)
6,000 to 7,999 | 9.0 | 10.0
8,000 to 13,999 Btu | 8.5 | 10.5
14,000 to 19,999 Btu | 9.0 | 9.0
20,000 and more Btu | (*) | (*)
With Reverse Cycle and with Louvered Sides | 9.0 | 12.0
With Reverse Cycle, without Louvered Sides | 8.5 | 10.0
* No data submitted for units meeting Federal Minimum Efficiency Standards effective October 1, 2000.

Cost Information for Appendix E

When the ranges of comparability in Appendix E are used on EnergyGuide labels for room air conditioners, the estimated annual operating cost disclosure appearing in the box at the bottom of the labels must be derived using the 2006 Representative Average Unit Costs for electricity (9.81¢ per kiloWatt-hour) and the text below the box must identify the costs as such

3. Sample Label 6 of Appendix L to Part 305 is revised to read as follows:

Appendix L to Part 305—Sample Labels

* * * * *

BILLING CODE 6750-01-P

Sample Label 6

* * * * *

By direction of the Commission.
Donald S. Clark,
Secretary.

[FR Doc. 06-6814 Filed 8-8-06; 8:45 am]

BILLING CODE 6750-01-C